DEPARTMENT OF JUSTICE

Notice of Lodging of Consent Decree Under the Clean Water Act

Under 28 CFR 50.7, notice is hereby given that on June 17, 2002, a Consent Decree in United States of America, Plaintiff, and Commonwealth of Pennsylvania, Plaintiff-Intervenor v. Borough of Indiana, Defendant, Civil Action No. 02-CV-1079 was lodged with the United States District Court for the Western District of Pennsylvania.

In this action the United States sought injunctive relief and civil penalties under Section 301 of the Clean Water Act, 33 U.S.C. 1311 for the Borough of Indiana, Pennsylvania's wastewater treatment plant and sewer collection system. The Consent Decree addresses the Borough of Indiana's (1) discharge of pollutants from its wastewater treatment plan, (2) bypassing sewage from an outfall in violation of the bypass prohibition in its permit, and (3) discharge of sewage from two unpermitted sanitary sewer overflow points in its collection system. Pursuant to the settlement, the Borough of Indiana will also pay a civil penalty of $240,000.

The Department of Justice will receive for a period of thirty (30) days from the date of this publication comments relating to the Consent Decree. Comments should be addressed to the Assistant Attorney General. Environment and Natural Resources Division, P.O. Box 7611, U.S. Department of Justice, Washington, DC 20044-7611, and should refer to United States of America, Plaintiff, and Commonwealth of Pennsylvania, Plaintiff-Intervenor v. Borough of Indiana, Defendant, D.J. Ref. 90-5-1-1-4475.

The Consent Decree may be examined at the Office of the United States Attorney, Western District of Pennsylvania, 633 United States Post Office & Courthouse, Pittsburgh, Pennsylvania 15219, and at U.S. EPA Region III Office, 1650 Arch Street, Philadelphia, Pennsylvania 19103-2029. A copy of the Consent Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $29.00 (25 cents per page reproduction cost) payable to the U.S. Treasury.

Robert Brook,
Assistant Chief, Environmental Enforcement Section, Environment and Natural Resources Division.

[FR Doc. 02-16777 Filed 7-3-02; 8:45 am]

BILLING CODE 4410-15-M